Title 3—

The President

Proclamation 10203 of May 5, 2021

National Day of Prayer, 2021

By the President of the United States of America

A Proclamation

Throughout our history, Americans of many religions and belief systems have turned to prayer for strength, hope, and guidance. Prayer has nourished countless souls and powered moral movements—including essential fights against racial injustice, child labor, and infringement on the rights of disabled Americans. Prayer is also a daily practice for many, whether it is to ask for help or strength, or to give thanks over blessings bestowed.

The First Amendment to our Constitution protects the rights of free speech and religious liberty, including the right of all Americans to pray. These freedoms have helped us to create and sustain a Nation of remarkable religious vitality and diversity across the generations.

Today, we remember and celebrate the role that the healing balm of prayer can play in our lives and in the life of our Nation. As we continue to confront the crises and challenges of our time—from a deadly pandemic, to the loss of lives and livelihoods in its wake, to a reckoning on racial justice, to the existential threat of climate change—Americans of faith can call upon the power of prayer to provide hope and uplift us for the work ahead. As the late Congressman John Lewis once said, “Nothing can stop the power of a committed and determined people to make a difference in our society. Why? Because human beings are the most dynamic link to the divine on this planet.”

On this National Day of Prayer, we unite with purpose and resolve, and recommit ourselves to the core freedoms that helped define and guide our Nation from its earliest days. We celebrate our incredible good fortune that, as Americans, we can exercise our convictions freely—no matter our faith or beliefs. Let us find in our prayers, however they are delivered, the determination to overcome adversity, rise above our differences, and come together as one Nation to meet this moment in history.

The Congress, by Public Law 100-307, as amended, has called on the President to issue each year a proclamation designating the first Thursday in May as a “National Day of Prayer.”

NOW, THEREFORE, I, JOSEPH R. BIDEN JR., President of the United States of America, by virtue of the authority vested in me by the Constitution and the laws of the United States, do hereby proclaim May 6, 2021, as a National Day of Prayer. I invite the citizens of our Nation to give thanks, in accordance with their own faiths and consciences, for our many freedoms and blessings, and I join all people of faith in prayers for spiritual guidance, mercy, and protection.

IN WITNESS WHEREOF, I have hereunto set my hand this fifth day of May, in the year of our Lord two thousand twenty-one, and of the Independence of the United States of America the two hundred and forty-fifth.

[FR Doc. 2021-09946

Filed 5-7-21; 8:45 am]

Billing code 3295-F1-P